DEPARTMENT OF TRANSPORTATION

Federal Aviation Administration

14 CFR Part 71

[Docket No. FAA-2011-0009; Airspace Docket No. 10-AWP-20]

RIN 2120-AA66

Amendment of VOR Federal Airways V-1, V-7, V-11 and V-20; Kona, HI

AGENCY: Federal Aviation Administration (FAA), DOT.

ACTION: Final rule.

SUMMARY: This action amends four VHF Omnidirectional Range (VOR) Federal airways in the vicinity of Kona, HI; V- 1, V-7, V-11 and V-20 to bring them in concert with the FAA's Aeronautical Products. These VOR Federal airways are being impacted due to the relocation of the Kona VHF Omnidirectional Radio Range and Tactical Air Navigation Aids (VORTAC).

DATES: Effective date 0901 UTC, May 5, 2011. The Director of the Federal Register approves this incorporation by reference action under 1 CFR part 51, subject to the annual revision of FAA Order 7400.9 and publication of conforming amendments.

FOR FURTHER INFORMATION CONTACT: Ken McElroy, Airspace Regulation and ATC Procedures Group, Office of Mission Support Services, Federal Aviation Administration, 800 Independence Avenue, SW., Washington, DC 20591; telephone: (202) 267-8783.

SUPPLEMENTARY INFORMATION:

Background

The FAA has relocated the Kona VORTAC current location 3.92 nautical miles north northwest to the Kona International Airport property. As a part of this effort, the FAA realigned V- 1, V-7, V-11 and V-20, and changed the VORTAC identification from IAI to KOA.

The Rule

This action amends Title 14 Code of Federal Regulations (14 CFR) part 71 by modifying Hawaiian VOR Federal Airways V-1, V-7, V-11 and V-20. Specifically, this action realigns the airways north northwest of the current VORTAC site to reflect the new radials of the relocated Kona VORTAC (KOA) onto Kona International Keahole Airport property Kailua-Kona, HI. This will enhance the management of aircraft operations over Hawaii. This action does not affect the boundaries, altitudes, or operating requirements of the airspace. The FAA's Aeronautical Products has correctly charted the airspace, therefore, notice and public comment under 5 U.S.C. 553(b) are unnecessary.

Hawaiian VOR airways are published in paragraph 6010(c) of FAA Order 7400.9U, dated August 18, 2010, and effective September 15, 2010, which is incorporated by reference in 14 CFR 71.1. The VOR airways listed in this document will be published subsequently in the Order.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it revises multiple Federal airways in Hawaii.

Environmental Review

The FAA has determined that this action qualifies for categorical exclusion under the National Environmental Policy Act in accordance with 311a, FAA Order 1050.1E, “Environmental Impacts: Policies and Procedures.” This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9U, Airspace Designations and Reporting Points, signed August 18, 2010 and effective September 15, 2010 amended as follows:

Paragraph 6010(c) Hawaiian VOR federal airways.

* * * * *

V-1 [Amended]

From Kona, HI, INT Kona 321° and Maui, HI, 180° radials; INT Maui 180° and Upolu Point, HI, 305° radials; INT Maui 199° and Upolu Point 305° radials; to Maui.

* * * * *

V-7 [Amended]

From Kona, HI, INT Kona 321° and Lanai, HI, 140° radials; Lanai; Molokai, HI. From Koko Head 050° and Molokai 358° radials; to INT Molokai 358° radial and lat. 24°19′00″ N.

* * * * *

V-11 [Amended]

From INT Kona, HI, 321° and Upolu Point, HI, 211° radials; via Upolu Point; INT Upolu Point 349° and Maui, HI, 080° radials; to Maui.

* * * * *

V-20 [Amended]

From Honolulu, HI, INT Honolulu 136° and Kona, HI, 305° radials; Kona.

Issued in Washington, DC, on March 1, 2011.
Rodger A. Dean,
Acting Manager, Airspace, Regulations and ATC Procedures Group.

[FR Doc. 2011-5078 Filed 3-9-11; 8:45 am]

BILLING CODE 4910-13-P